ENVIRONMENTAL PROTECTION AGENCY

40 CFR Part 59

[EPA-HQ-OAR-2006-0971; FRL-9644-8]

RIN 2060-AR37

National Volatile Organic Compound Emission Standards for Aerosol Coatings—Addition of Dimethyl Carbonate, Benzotrifluoride, and Hexamethyldisiloxane to Table of Reactivity Factors

AGENCY: Environmental Protection Agency (EPA).

ACTION: Direct final rule.

SUMMARY: The EPA is taking direct final action to amend the National Volatile Organic Compound Emission Standards for Aerosol Coatings final rule, which is a rule that establishes national reactivity-based emission standards for the aerosol coatings category (aerosol spray paints) under the Clean Air Act, published elsewhere in the Federal Register. This direct final action adds three compounds: dimethyl carbonate, benzotrifluoride and hexamethyldisiloxane, and their associated reactivity factors to the aerosol coatings reactivity rule's table of reactivity factors based on petitions received from regulated entities. This action also revises two tables in the final rule, and corrects a typographical error in a test method reference.

DATES: This rule is effective on June 7, 2012 without further notice, unless the EPA receives adverse comment by April 23, 2012. If the EPA receives adverse comment, we will publish a timely withdrawal in the Federal Register informing the public that some or all of the amendments in the final rule will not take effect.

ADDRESSES: Submit your comments, identified by Docket ID No. EPA-HQ-OAR-2006-0971, by one of the following methods:

• http://www.regulations.gov: Follow the on-line instructions for submitting comments.

• Email: a-and-r-docket@epa.gov.

• Fax: (202) 566-9744.

• Mail: U.S. Postal Service, send comment to: EPA Docket Center (6102T), Air and Radiation Docket, National Volatile Organic Compound Emission Standards for Aerosol Coatings, 1200 Pennsylvania Avenue NW., Washington, DC 20460. Please include a total of two copies.

• Hand Delivery: In person or by courier, deliver comments to: EPA Docket Center (6102T), Air and Radiation Docket, National Volatile Organic Compound Emission Standards for Aerosol Coatings, Public Reading Room, EPA West, Room 3334, 1301 Constitution Ave. NW., Washington, DC 20460. Such deliveries are only accepted during the Docket's normal hours of operation, and special arrangements should be made for deliveries of boxed information.

Instructions: Direct your comments to Docket ID No. EPA-HQ-OAR-2006-0971. The EPA's policy is that all comments received will be included in the public docket without change and may be made available online at www.regulations.gov, including any personal information provided, unless the comment includes information claimed to be confidential business information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

FOR FURTHER INFORMATION CONTACT: For information concerning the aerosol coatings reactivity rule, contact Ms. J. Kaye Whitfield, U.S. EPA, Office of Air Quality Planning and Standards, Sector Policies and Programs Division, Minerals and Manufacturing Group (D243-02), Research Triangle Park, North Carolina 27711, telephone number: (919) 541-2509, fax number (919) 541-5450, email address: whitfield.kaye@epa.gov. For information concerning the Clean Air Act section 183(e) consumer and commercial products program, contact Ms. Kim Teal, U.S. EPA, Office of Air Quality Planning and Standards, Sector Policies and Programs Division, Minerals and Manufacturing Group (D243-04), Research Triangle Park, North Carolina 27711, telephone number: (919) 541-5580, fax number (919) 541-5450, email address: teal.kim@epa.gov.

SUPPLEMENTARY INFORMATION:

Table of Contents

I. Why is the EPA using a direct final rule?

II. Does this action apply to me?

III. What should I consider as I prepare my comments for the EPA?

A. Submitting CBI

B. Tips for Preparing Your Comments

IV. What are the amendments made by this direct final rule?

V. Statutory and Executive Order Reviews

A. Executive Order 12866: Regulatory Planning and Review and Executive Order 13563: Improving Regulation and Regulatory Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Executive Order 12898: Federal Actions To Address Environmental Justice in Minority Populations and Low-Income Populations

K. Congressional Review Act

I. Why is the EPA using a direct final rule?

The EPA is publishing this direct final rule without a prior proposed rule because we view this as a noncontroversial action and anticipate no adverse comment. Section 59.511(j) of the final rule states that if a regulated entity identifies a VOC that is needed for an aerosol formulation that is not listed in Tables 2A, 2B, or 2C, it is assigned a default reactivity factor (RF) of 22.04/Z g O3/g VOC. However, regulated entities may petition the Agency to add a compound to Table 2A, 2B, or 2C provided that the petitions include the chemical name, CAS number, a statement certifying the intent to use the compound in an aerosol coatings product, and adequate information to evaluate the reactivity of the compound and assign a RF value consistent with the values for the other compounds listed in Table 2A. Since publication of the final rule (73 FR 15604, March 24, 2008), compounds have been added to Table 2A following the same procedure (74 FR 29595, June 23, 2009). The amendments to the aerosol coatings final rule described herein consist of adding three compounds to Table 2A, and their associated RFs and Chemical Abstract Service (CAS) numbers, based on petitions received by the Agency and consistent with Section 59.511(j) of the final rule. The amendments do not make material changes to the rule. This action also revises Table 1 of the final rule by moving the units from the table heading to the reactivity limits column, revises Tables 2A, 2B, and 2C by assigning units to the reactivity factor column, and corrects a typographical error in a test method reference. However, in the “Proposed Rules” section of this Federal Register, we are publishing a separate document that will serve as the proposed rule to the National Volatile Organic Compound Emission Standards for Aerosol Coatings (40 CFR part 59) if adverse comments are received on this direct final rule. We will not institute a second comment period on this action. Any parties interested in commenting must do so at this time. For further information about commenting on this rule, see the ADDRESSES section of this document.

If the EPA receives adverse comment, we will publish a timely withdrawal in the Federal Register informing the public that some or all of the amendments in this direct final rule will not take effect. We would address all public comments in any subsequent final rule based on the proposed rule.

II. Does this action apply to me?

The entities potentially affected by this direct final rule are the same entities that are subject to the aerosol coatings final rule. The entities affected by the aerosol coatings final rule include: Manufacturers, processors, distributors or importers of aerosol coatings for sale or distribution in the United States, and manufacturers, processors, distributors or importers who supply the entities listed above with aerosol coatings for sale or distribution in interstate commerce in the United States.

III. What should I consider as I prepare my comments for the EPA?

A. Submitting CBI. Do not submit this information to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

IV. What are the amendments made by this direct final rule?

This direct final rule adds three compounds to Table 2A—Reactivity Factors: dimethyl carbonate, benzotrifluoride, hexamethyldisiloxane, and their corresponding CAS numbers and RFs (see Table A). This action is in accordance with Section 59.511(j) of the final rule which allows regulated entities to petition the Agency to add compounds to Table 2A, 2B, or 2C provided that the petition includes the chemical name, CAS number, a statement certifying the intent to use the compound in an aerosol coatings product, and adequate information to evaluate the reactivity of the compound and assign a RF value consistent with the values for the other compounds listed in Table 2A (73 FR 15604, March 24, 2008; 74 FR 29595, June 23, 2009). EPA received petitions from KOWA America, Raymond Regulatory Resources, Seymour of Sycamore, and 3M, requesting the addition of the three compounds to Table 2A.

This action also revises Table 1 of the final rule by moving the units, expressed as grams of ozone per gram of product (g O3/g product), from the table heading to the column titled, “Reactivity Limit”; revises Tables 2A, 2B, and 2C by adding units, expressed as grams of ozone per gram of VOC (g O3/g VOC), to the column titled, “Reactivity Factors”; and corrects a test method typographical error by replacing the phrase “California Air Resources Board Method 3-0” in 40 CFR 59.515(a)(1) with “California Air Resources Board Method 310.”

Table A—Compounds Added to Table of Reactivity Factors
Compound | CAS No. | Reactivity factor (g O3/g VOC)
Benzotrifluoride | 98-08-8 | 0.26
Hexamethyldisiloxane | 107-46-0 | 0.00
Dimethyl carbonate | 616-38-6 | 0.06

As is the case for the other compounds in Table 2A, the RFs assigned to the three compounds are consistent with the maximum incremental reactivity (MIR) values in California's aerosol coatings regulation (Title 17, California Code of Regulations, Division 3, Chapter 1, Subchapter 8.6, Article 1, § 94700).

In the instance of benzotrifluoride and dimethyl carbonate, their RFs were previously published in the EPA's original proposal for this rule; therefore, the information on their reactivity had been adequately evaluated and RFs assigned (72 FR 38592, July 16, 2007). When the rule was finalized, only those compounds known to EPA to be used in aerosol coating formulations were included in Table 2A (73 FR 15604, March 24, 2008). At the time the original rule was finalized, EPA did not know of any aerosol coating formulations in which benzotrifluoride and dimethyl carbonate were used, so their RFs were not included in Table 2A. The RFs for benzotrifluoride and dimethyl carbonate are consistent with the California MIR values that have been effective since July 18, 2001.

For hexamethyldisiloxane, an RF value was not included in the original proposal for this rule. California assigned an MIR value of zero to hexamethyldisiloxane, effective October 2, 2010. The most recent MIR values published by Dr. William Carter at the University of California at Riverside, upon which the California MIR values are based, lists the MIR for hexamethyldisiloxane as −0.025 g O3/g VOC (see http://www.cert.ucr.edu/~carter/SAPRC/scales07.xls). This MIR value indicates that hexamethyldisiloxane acts as a slight inhibitor to ozone formation. Based on this information, the EPA believes that a RF of zero is appropriate for the purposes of this regulation.

Comments on this direct final action are to be limited to issues directly associated with adding these three compounds, and their associated RFs to Table 2A.

V. Statutory and Executive Order Reviews

A. Executive Order 12866: Regulatory Planning and Review and Executive Order 13563: Improving Regulation and Regulatory Review

This action is not a “significant regulatory action” under the terms of Executive Order 12866 (58 FR 51735 October 4, 1993) and is, therefore, not subject to review under Executive Orders 12866 and 13563 (76 FR 3821, January 21, 2011).

B. Paperwork Reduction Act

This action does not impose any new information collection burden because it serves to add compounds to Table 2A of the rule and make several clarifying edits. However, the Office of Management and Budget (OMB) has previously approved the information collection requirements contained in the existing regulations (40 CFR parts 51 and 59) under the provisions of the Paperwork Reduction Act, 44 U.S.C. 3501 et seq. and has assigned OMB control number 2060-0617. The OMB control numbers for the EPA's regulations in 40 CFR are listed in 40 CFR part 9.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this final rule on small entities, small entity is defined as: (1) A small business as defined by the Small Business Administration's regulations at 13 CFR 121.201; (2) a governmental jurisdiction that is a government of a city, county, town, school district or special district with a population of less than 50,000; and (3) a small organization that is any not-for-profit enterprise which is independently owned and operated and is not dominant in its field.

After considering the economic impacts of this final rule on small entities, I certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule.

This rule will not impose any requirements on small entities. We have determined that small businesses will not incur any adverse impacts because the EPA is taking this action to amend the aerosol coatings rule by adding compounds to Table 2A of the rule and making several clarifying edits. These amendments do not create any new requirements or burdens, and no costs are associated with these amendments.

We have, therefore, concluded that this final rule will relieve regulatory burden for all affected small entities.

D. Unfunded Mandates Reform Act

This rule does not contain a federal mandate that may result in expenditures of $100 million or more for state, local and tribal governments, in the aggregate, or the private sector in any one year. Thus, this rule is not subject to the requirements of sections 202 or 205 of UMRA.

This rule is also not subject to the requirements of section 203 of UMRA because it contains no regulatory requirements that might significantly or uniquely affect small governments. In this action, the EPA is amending Table 2A by adding three compounds and their associated reactivity factors, and making several clarifying edits.

E. Executive Order 13132: Federalism

This action does not have federalism implications. It will not have substantial direct effects on the states, on the relationship between the national government and the states, or on the distribution of power and responsibilities among the various levels of government, as specified in Executive Order 13132. This action adds compounds and corresponding Chemical Abstract Service numbers and reactivity factors to Table 2A of the aerosol coatings rule, and makes several clarifying edits. Thus, Executive Order 13132 does not apply to this action.

F. Executive Order 13175: Consultation and Coordination With Indian Tribal Governments

This action does not have tribal implications, as specified in Executive Order 13175 (65 FR 67249, November 9, 2000). This action adds compounds and corresponding Chemical Abstract Service numbers and reactivity factors to Table 2A of the aerosol coatings rule, and makes several clarifying edits. Thus, Executive Order 13175 does not apply to this action.

G. Executive Order 13045: Protection of Children From Environmental Health Risks and Safety Risks

The EPA interprets Executive Order 13045 (62 FR 19885, April 23, 1997) as applying to those regulatory actions that concern health or safety risks, such that the analysis required under section 5-501 of the Order has the potential to influence the regulation. This action is not subject to Executive Order 13045 because it is based solely on technology performance.

H. Executive Order 13211: Actions That Significantly Affect Energy Supply, Distribution, or Use

This action is not subject to Executive Order 13211 (66 FR 28355 (May 22, 2001)), because it is not a significant regulatory action under Executive Order 12866.

I. National Technology Transfer and Advancement Act

Section 12(d) of the National Technology Transfer and Advancement Act of 1995 (NTTAA), Public Law 104-113, 12(d) (15 U.S.C. 272 note) directs the EPA to use voluntary consensus standards in its regulatory activities unless to do so would be inconsistent with applicable law or otherwise impractical. Voluntary consensus standards are technical standards (e.g., materials specifications, test methods, sampling procedures and business practices) that are developed or adopted by voluntary consensus standards bodies. NTTAA directs the EPA to provide Congress, through OMB, explanations when the agency decides not to use available and applicable voluntary consensus standards.

This action does not involve technical standards. Therefore, the EPA did not consider the use of any voluntary consensus standards.

J. Executive Order 12898: Federal Actions To Address Environmental Justice in Minority Populations and Low-Income Populations

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

The EPA has determined that this final rule will not have disproportionately high and adverse human health or environmental effects on minority or low-income populations because it does not affect the level of protection provided to human health or the environment. Further, this action adds compounds to Table 2 of the aerosol coatings rule, and corresponding Chemical Abstract Service numbers and reactivity factors, and makes several clarifying edits.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective June 7, 2012.

List of Subjects in 40 CFR Part 59

Environmental protection, Administrative practice and procedure, Air pollution control, Incorporation by reference, Intergovernmental relations, Reporting and recordkeeping requirements.

Dated: March 1, 2012.
Lisa P. Jackson,
Administrator.

For the reasons set out in the preamble, part 59 of title 40, Chapter I of the Code of Federal Regulations is amended as follows:

PART 59—[AMENDED]

1. The authority citation for part 59 continues to read as follows:

Authority: 42 U.S.C. 7414 and 7511b(e).

2. Section 59.515 is amended by revising paragraph (a)(1) to read as follows:

§ 59.515 Incorporations by reference.

* * * * *

(a) * * *

(1) California Air Resources Board Method 310—Determination of Volatile Organic Compounds (VOC) in Consumer Products and Reactive Organic Compounds in Aerosol Coating Products (May 5, 2005), IBR approved for § 59.508.

* * * * *

3. Table 1 to Subpart E of Part 59 is revised to read as follows:

Table 1 to Subpart E of Part 59—Product-Weighted Reactivity Limits by Coating Category
Coating category | Category code ᵃ | Reactivity limit (g O3/g product)
Clear Coatings | CCP | 1.50
Flat Coatings | FCP | 1.20
Fluorescent Coatings | FLP | 1.75
Metallic Coatings | MCP | 1.90
Non-Flat Coatings | NFP | 1.40
Primers | PCP | 1.20
Ground Traffic/Marking | GTM | 1.20
Art Fixatives or Sealants | AFS | 1.80
Auto Body Primers | ABP | 1.55
Automotive Bumper and Trim Products | ABT | 1.75
Aviation or Marine Primers | AMP | 2.00
Aviation Propellor Coatings | APC | 2.50
Corrosion Resistant Brass, Bronze, or Copper Coatings | CRB | 1.80
Exact Match Finish—Engine Enamel | EEE | 1.70
Exact Match Finish—Automotive | EFA | 1.50
Exact Match Finish—Industrial | EFI | 2.05
Floral Sprays | FSP | 1.70
Glass Coatings | GCP | 1.40
High Temperature Coatings | HTC | 1.85
Hobby/Model/Craft Coatings, Enamel | HME | 1.45
Hobby/Model/Craft Coatings, Lacquer | HML | 2.70
Hobby/Model/Craft Coatings, Clear or Metallic | HMC | 1.60
Marine Spar Varnishes | MSV | 0.90
Photograph Coatings | PHC | 1.00
Pleasure Craft Primers, Surfacers or Undercoaters | PCS | 1.05
Pleasure Craft Topcoats | PCT | 0.60
Polyolefin Adhesion Promoters | PAP | 2.50
Shellac Sealers, Clear | SSC | 1.00
Shellac Sealers, Pigmented | SSP | 0.95
Slip-Resistant Coatings | SRC | 2.45
Spatter/Multicolor Coatings | SMC | 1.05
Vinyl/Fabric/Leather/Polycarbonate Coatings | VFL | 1.55
Webbing/Veiling Coatings | WFC | 0.85
Weld-Through Primers | WTP | 1.00
Wood Stains | WSP | 1.40
Wood Touch-up/Repair or Restoration Coatings | WTR | 1.50
ᵃ Regulated entities may use these category codes or define their own in accordance with § 59.511(b)(6).

4. Table 2A to Subpart E of Part 59 is revised to read as follows:

Table 2A to Subpart E of Part 59—Reactivity factors
Compound | CAS No. | Reactivity factor (g O3/g VOC)
Formaldehyde | 50-00-0 | 8.97
Glycerol (1,2,3-Propanetriol) | 56-81-5 | 3.27
Propylene Glycol | 57-55-6 | 2.75
Ethanol | 64-17-5 | 1.69
Formic Acid | 64-18-6 | 0.08
Acetic Acid | 64-19-7 | 0.71
Methanol | 67-56-1 | 0.71
Isopropyl Alcohol (2-Propanol) | 67-63-0 | 0.71
Acetone (Propanone) | 67-64-1 | 0.43
n-Propanol (n-Propyl Alcohol) | 71-23-8 | 2.74
n-Butyl Alcohol (Butanol) | 71-36-3 | 3.34
n-Pentanol (Amyl Alcohol) | 71-41-0 | 3.35
Benzene | 71-43-2 | 0.81
1,1,1-Trichloroethane | 71-55-6 | 0.00
Propane | 74-98-6 | 0.56
Vinyl Chloride | 75-01-4 | 2.92
Acetaldehyde | 75-07-0 | 6.84
Methylene Chloride (Dichloromethane) | 75-09-2 | 0.07
Ethylene Oxide | 75-21-8 | 0.05
Isobutane | 75-28-5 | 1.35
HFC-152A (1,1-Difluoroethane) | 75-37-6 | 0.00
Propylene Oxide | 75-56-9 | 0.32
t-Butyl Alcohol | 75-65-0 | 0.45
Methyl t-Butyl Ketone | 75-97-8 | 0.78
Isophorone (3,5,5-Trimethyl-2-Cyclohexenone) | 78-59-1 | 10.58
Isopentane | 78-78-4 | 1.68
Isobutanol | 78-83-1 | 2.24
2-Butanol (s-Butyl Alcohol) | 78-92-2 | 1.60
Methyl Ethyl Ketone (2-Butanone) | 78-93-3 | 1.49
Monoisopropanol Amine (1-Amino-2-Propanol) | 78-96-6 | 13.42
Trichloroethylene | 79-01-6 | 0.60
Propionic Acid | 79-09-4 | 1.16
Acrylic Acid | 79-10-7 | 11.66
Methyl Acetate | 79-20-9 | 0.07
Nitroethane | 79-24-3 | 12.79
Methacrylic Acid | 79-41-4 | 18.78
a-Pinene (Pine Oil) | 80-56-8 | 4.29
Methyl Methacrylate | 80-62-6 | 15.84
Naphthalene | 91-20-3 | 3.26
Xylene, ortho- | 95-47-6 | 7.49
o-Cresol | 95-48-7 | 2.34
1,2,4-Trimethylbenzene | 95-63-6 | 7.18
3-Pentanone | 96-22-0 | 1.45
Methyl Ethyl Ketoxime (Ethyl Methyl Ketone Oxime) | 96-29-7 | 22.04
gamma-Butyrolactone | 96-48-0 | 1.15
Ethyl Lactate | 97-64-3 | 2.71
Isobutyl Isobutyrate | 97-85-8 | 0.61
Isobutyl Methacrylate | 97-86-9 | 8.99
Butyl Methacrylate | 97-88-1 | 9.09
Benzotrifluoride | 98-08-8 | 0.26
PCBTF (p-Trifluoromethyl-Cl-Benzene) | 98-56-6 | 0.11
Cumene (Isopropyl Benzene) | 98-82-8 | 2.32
a-Methyl Styrene | 98-83-9 | 1.72
Ethyl Benzene | 100-41-4 | 2.79
Styrene | 100-42-5 | 1.95
Benzaldehyde | 100-52-7 | 0.00
Triethanolamine | 102-71-6 | 2.76
2-Ethyl-Hexyl Acetate | 103-09-3 | 0.79
2-Ethyl-Hexyl Acrylate | 103-11-7 | 2.42
2-Ethyl-1-Hexanol (Ethyl Hexyl Alcohol) | 104-76-7 | 2.20
Ethyl Propionate | 105-37-3 | 0.79
s-Butyl Acetate | 105-46-4 | 1.43
n-Propyl Propionate | 106-36-5 | 0.93
Xylene, para- | 106-42-3 | 4.25
p-Dichlorobenzene | 106-46-7 | 0.20
Dimethyl Succinate | 106-65-0 | 0.23
1,2-Epoxybutane (Ethyl Oxirane) | 106-88-7 | 1.02
n-Propyl Bromide | 106-94-5 | 0.35
Butane | 106-97-8 | 1.33
1,3-Butadiene | 106-99-0 | 13.58
Ethylene Glycol | 107-21-1 | 3.36
2-Methyl-2,4-Pentanediol | 107-41-5 | 1.04
Hexamethyldisiloxane | 107-46-0 | 0.00
Isohexane Isomers | 107-83-5 | 1.80
Methyl n-Propyl Ketone (2-Pentanone) | 107-87-9 | 3.07
Propylene Glycol Monmethyl Ether (1-Methoxy-2-Propanol) | 107-98-2 | 2.62
n,n-Dimethylethanolamine | 108-01-0 | 4.76
1-Nitropropane | 108-03-2 | 16.16
Vinyl Acetate | 108-05-4 | 3.26
Methyl Isobutyl Ketone | 108-10-1 | 4.31
Isopropyl Acetate | 108-21-4 | 1.12
Propylene Carbonate (4-Methyl-1,3-Dioxolan-2one) | 108-32-7 | 0.25
Xylene, meta- | 108-38-3 | 10.61
Propylene Glycol Monomethyl Ether Acetate (1-Methoxy-2-Propyl Acetate) | 108-65-6 | 1.71
1,3,5-Trimethyl Benzene | 108-67-8 | 11.22
Di-Isobutyl Ketone (2,6-Dimethyl-4-Heptanone) | 108-83-8 | 2.94
Methylcyclohexane | 108-87-2 | 1.99
Toluene | 108-88-3 | 3.97
Monochlorobenzene | 108-90-7 | 0.36
Cyclohexanol | 108-93-0 | 2.25
Cyclohexanone | 108-94-1 | 1.61
n-Butyl Butyrate | 109-21-7 | 1.12
Propyl Acetate | 109-60-4 | 0.87
Pentane | 109-66-0 | 1.54
Ethylene Glycol Monomethyl Ether (2-Methoxyethanol) | 109-86-4 | 2.98
Tetrahydrofuran | 109-99-9 | 4.95
Methyl Isoamyl Ketone (5-Methyl-2-Hexanone) | 110-12-3 | 2.10
Isobutyl Acetate | 110-19-0 | 0.67
Methyl Amyl Ketone | 110-43-0 | 2.80
Hexane | 110-54-3 | 1.45
n-Propyl Formate | 110-74-7 | 0.93
2-Ethoxyethanol | 110-80-5 | 3.78
Cyclohexane | 110-82-7 | 1.46
Morpholine | 110-91-8 | 15.43
Dipropylene Glycol | 110-98-5 | 2.48
Ethylene Glycol Monoethyl Ether Acetate (2-Ethoxyethyl Acetate) | 111-15-9 | 1.90
Diethylenetriamine | 111-40-0 | 13.03
Diethanolamine | 111-42-2 | 4.05
Diethylene Glycol | 111-46-6 | 3.55
n-Octane | 111-65-9 | 1.11
2-Butoxy-1-Ethanol (Ethylene Glycol Monobutyl Ether) | 111-76-2 | 2.90
Diethylene Glycol Methyl Ether (2-(2-Methoxyethoxy) Ethanol) | 111-77-3 | 2.90
n-Nonane | 111-84-2 | 0.95
2-(2-Ethoxyethoxy) Ethanol | 111-90-0 | 3.19
Ethylene Glycol Monobutyl Ether Acetate (2-Butoxyethyl Acetate) | 112-07-2 | 1.67
2-(2-Ethoxyethoxy) Ethyl Acetate | 112-15-2 | 1.50
2-(2-Butoxyethoxy)-Ethanol | 112-34-5 | 2.70
Dimethyl Ether | 115-10-6 | 0.93
Triethylamine | 121-44-8 | 16.60
2-Phenoxyethanol; Ethylene Glycol Phenyl Ether | 122-99-6 | 3.61
Diacetone Alcohol | 123-42-2 | 0.68
2,4-Pentanedione | 123-54-6 | 1.02
Butanal | 123-72-8 | 6.74
Butyl Acetate, n | 123-86-4 | 0.89
2-(2-Butoxyethoxy) Ethyl Acetate | 124-17-4 | 1.38
2-Amino-2-Methyl-1-Propanol | 124-68-5 | 15.08
Perchloroethylene | 127-18-4 | 0.04
Ethanolamine | 141-43-5 | 5.97
Ethyl acetate | 141-78-6 | 0.64
Heptane | 142-82-5 | 1.28
n-Hexyl Acetate (Hexyl Acetate) | 142-92-7 | 0.87
2-Ethyl Hexanoic Acid | 149-57-5 | 4.41
1,2,3-Trimethyl Benzene | 526-73-8 | 11.26
t-Butyl Acetate | 540-88-5 | 0.20
Methyl Isobutyrate | 547-63-7 | 0.70
Methyl Lactate | 547-64-8 | 2.75
Methyl Propionate | 554-12-1 | 0.71
1,2 Butanediol | 584-03-2 | 2.21
n-Butyl Propionate | 590-01-2 | 0.89
Methyl n-Butyl Ketone (2-Hexanone) | 591-78-6 | 3.55
Dimethyl carbonate | 616-38-6 | 0.06
Ethyl Isopropyl Ether | 625-54-7 | 3.86
Dimethyl Adipate | 627-93-0 | 1.95
Methy n-Butyl Ether | 628-28-4 | 3.66
Amyl Acetate (Pentyl Ethanoate, Pentyl Acetate) | 628-63-7 | 0.96
Ethyl n-Butyl Ether | 628-81-9 | 3.86
Ethyl t-Butyl Ether | 637-92-3 | 2.11
1,3-Dioxolane | 646-06-0 | 5.47
Ethyl-3-Ethoxypropionate | 763-69-9 | 3.61
Methyl Pyrrolidone (n-Methyl-2-Pyrrolidone) | 872-50-4 | 2.56
Dimethyl Gluterate | 1119-40-0 | 0.51
Ethylene Glycol 2-Ethylhexyl Ether [2-(2-Ethylhexyloxy) Ethanol] | 1559-35-9 | 1.71
Propylene Glycol Monopropyl Ether (1-Propoxy-2-Propanol) | 1569-01-3 | 2.86
Propylene Glycol Monoethyl Ether (1-Ethoxy-2-Propanol) | 1569-02-4 | 3.25
2-Methoxy-1-Propanol | 1589-47-5 | 3.01
Methyl t-Butyl Ether | 1634-04-4 | 0.78
Ethylcyclohexane | 1678-91-7 | 1.75
Isoamyl Isobutyrate | 2050-01-3 | 0.89
2-Propoxyethanol (Ethylene Glycol Monopropyl Ether) | 2807-30-9 | 3.52
n-Butoxy-2-Propanol | 5131-66-8 | 2.70
d-Limonene (Dipentene or Orange Terpene) | 5989-27-5 | 3.99
Dipropylene Glycol Methyl Ether Isomer (2-[2Methoxypropoxy]-1-Propanol) | 13588-28-8 | 3.02
Texanol (1,3 Pentanediol, 2,2,4-Trimethyl, 1-Isobutyrate) | 25265-77-4 | 0.89
Isodecyl Alcohol (8-Methyl-1-Nonanol) | 25339-17-7 | 1.23
Tripropylene Glycol Monomethyl Ether | 25498-49-1 | 1.90
Glycol Ether DPNB (1-(2-Butoxy-1-Methylethoxy) 2-Propanol) | 29911-28-2 | 1.96
Propylene Glycol t-Butyl Ether (1-tert-Butoxy-2-Propanol) | 57018-52-7 | 1.71
2-Methoxy-1-Propyl Acetate | 70657-70-4 | 1.12
Oxo-Heptyl Acetate | 90438-79-2 | 0.97
2-tert-Butoxy-1-Propanol | 94023-15-1 | 1.81
Oxo-Octyl Acetate | 108419-32-5 | 0.96
C8 Disubstituted Benzenes | na | 7.48
C9 Styrenes | na | 1.72

5. Table 2B to Subpart E of Part 59 is revised to read as follows:

Table 2B to Subpart E of Part 59—Reactivity Factors for Aliphatic Hydrocarbon Solvent Mixtures
Bin | Average boiling point* (degrees F) | Criteria | Reactivity factor (g O3/g VOC)
1 | 80-205 | Alkanes (<2% Aromatics) | 2.08
2 | 80-205 | N- & Iso-Alkanes (≥90% and <2% Aromatics) | 1.59
3 | 80-205 | Cyclo-Alkanes (≥90% and <2% Aromatics) | 2.52
4 | 80-205 | Alkanes (2 to <8% Aromatics) | 2.24
5 | 80-205 | Alkanes (8 to 22% Aromatics) | 2.56
6 | >205-340 | Alkanes (<2% Aromatics) | 1.41
7 | >205-340 | N- & Iso-Alkanes (≥90% and <2% Aromatics) | 1.17
8 | >205-340 | Cyclo-Alkanes (≥90% and <2% Aromatics) | 1.65
9 | >205-340 | Alkanes (2 to <8% Aromatics) | 1.62
10 | >205-340 | Alkanes (8 to 22% Aromatics) | 2.03
11 | >340-460 | Alkanes (<2% Aromatics) | 0.91
12 | >340-460 | N- & Iso-Alkanes (≥90% and <2% Aromatics) | 0.81
13 | >340-460 | Cyclo-Alkanes (≥90% and <2% Aromatics) | 1.01
14 | >340-460 | Alkanes (2 to <8% Aromatics) | 1.21
15 | >340-460 | Alkanes (8 to 22% Aromatics) | 1.82
16 | >460-580 | Alkanes (<2% Aromatics) | 0.57
17 | >460-580 | N- & Iso-Alkanes (≥90% and <2% Aromatics) | 0.51
18 | >460-580 | Cyclo-Alkanes (≥90% and <2% Aromatics) | 0.63
19 | >460-580 | Alkanes (2 to <8% Aromatics) | 0.88
20 | >460-580 | Alkanes (8 to 22% Aromatics) | 1.49
* Average Boiling Point = (Initial Boiling Point + Dry Point)/2(b) Aromatic Hydrocarbon Solvents

6. Table 2C to Subpart E of Part 59 is revised to read as follows:

Table 2C to Subpart E of Part 59—Reactivity Factors for Aromatic Hydrocarbon Solvent Mixtures
Bin | Boiling range (degrees F) | Criteria | Reactivity factor (g O3/g VOC)
21 | 280-290 | Aromatic Content (≥98%) | 7.37
22 | 320-350 | Aromatic Content (≥98%) | 7.51
23 | 355-420 | Aromatic Content (≥98%) | 8.07
24 | 450-535 | Aromatic Content (≥98%) | 5.00

[FR Doc. 2012-5648 Filed 3-8-12; 8:45 am]

BILLING CODE 6560-50-P